DEPARTMENT OF LABOR

Occupational Safety and Health Administration

[Docket No. OSHA-2023-0012]

Federal Advisory Council on Occupational Safety and Health (FACOSH), Request for Nominations

AGENCY: Occupational Safety and Health Administration (OSHA), Labor.

ACTION: Request for nominations to serve on the Federal Advisory Council on Occupational Safety and Health (FACOSH).

SUMMARY: The Assistant Secretary of Labor for Occupational Safety and Health Administration (OSHA) invites interested parties to submit nominations for membership on the Federal Advisory Council on Occupational Safety and Health (FACOSH).

DATES: Nominations for FACOSH must be submitted (postmarked, sent, transmitted, or received) by February 23, 2024.

ADDRESSES: You may submit nominations and supporting materials by one of the following methods:

Electronically: You may submit nominations, including attachments, electronically into Docket No. OSHA-2023-0012 at www.regulations.gov, which is the Federal eRulemaking Portal. Follow the online instructions for submissions.

Docket: To read or download comments or other material in the docket, go to http://www.regulations.gov. Documents in the docket are listed in the http://www.regulations.gov index; however, some information (e.g., copyrighted material) is not publicly available to read or download through the website. All submissions, including copyrighted material, are available for the inspection through the OSHA Docket Office. Contact the OSHA Docket Office at (202) 693-2350 (TTY (877) 889-5627) for assistance in locating docket submissions.

Instructions: All submissions must include the agency name and OSHA docket number for this Federal Register notice (OSHA-2023-0012). OSHA will place comments, including personal information, in the public docket, which may be available online. Therefore, OSHA cautions interested parties about submitting personal information such as Social Security numbers and birthdates.

FOR FURTHER INFORMATION CONTACT:

Press inquiries: Mr. Frank Meilinger, Director, OSHA Office of Communications; telephone: (202) 693-1999; email: meilinger.francis2@dol.gov.

General information: Ms. Lana Nieves, Supervisor, OSHA Office of Federal Agency Programs; telephone (202) 693-2128; email: ofap@dol.gov.

Copies of this Federal Register document: Electronic copies of this Federal Register document are available at http://www.regulations.gov. This document, as well as news releases and other relevant information are also available on the OSHA web page at http://www.osha.gov.

SUPPLEMENTARY INFORMATION:

I. Background

FACOSH is authorized to advise the Secretary of Labor (Secretary) on all matters relating to the occupational safety and health of Federal employees (Occupational Safety and Health Act of 1970 (29 U.S.C. 668), 5 U.S.C. 7902, Executive Orders 12196 and 14109. This includes providing advice on how to reduce and keep to a minimum the number of injuries and illnesses in the Federal workforce and how to encourage the establishment and maintenance of effective occupational safety and health programs in each Federal agency. The FACOSH charter is available to read or download at http://www.osha.gov.

II. FACOSH Membership

FACOSH is comprised of 16 members (eight members represent management of federal agencies and departments and eight members are from labor organizations that represent federal employees) who the Secretary appoints to staggered terms not to exceed three (3) years. The Assistant Secretary, who chairs FACOSH, is seeking nominations to fill a labor member position on FACOSH that became vacant on November 30, 2023. This is a mid-term appointment, and the term will end on December 31, 2024.

FACOSH members serve at the pleasure of the Secretary unless the member is no longer qualified to serve, resigns, or is removed by the Secretary. The Secretary may appoint FACOSH members to successive terms. FACOSH meets at least two (2) times per year. The Department of Labor is committed to equal opportunity in the workplace and seeks broad-based and diverse FACOSH membership. Any interested person or organization may nominate one (1) or more qualified persons for membership on FACOSH. Interested persons also are invited and encouraged to submit statements in support of particular nominees.

III. Nomination Requirements

Nominations must include the following information:

1. The nominee's contact information and current occupation or position;

2. Nominee's resume or curriculum vitae, including prior membership on FACOSH and other relevant organizations, associations, and committees;

3. A summary of the nominee's background, experience, and qualifications that addresses the nominee's suitability for the nominated membership category of labor representative;

4. Articles or other documents the nominee has authored that indicate the nominee's knowledge, experience, and expertise in occupational safety and health, particularly as it pertains to the Federal workforce; and

5. A statement that the nominee is aware of the nomination, is willing to regularly attend and participate in FACOSH meetings and has no apparent conflicts of interest that would preclude membership on FACOSH.

IV. Member Selection

The Secretary will appoint FACOSH members based on criteria including, but not limited to, the nominee's level of responsibility for occupational safety and health matters involving the Federal workforce, experience and competence in occupational safety and health, and willingness and ability to participate in FACOSH meetings regularly and fully. Labor nominees who are responsible for Federal employee occupational safety and health matters within their respective organizations are preferred. The information received through the nomination process, along with other relevant sources of information, will assist the Secretary in making appointments to FACOSH. In selecting FACOSH members, the Secretary will consider individuals nominated in response to this Federal Register notice, as well as other qualified individuals. OSHA will publish the new FACOSH member in the Federal Register.

Authority and Signature

James S. Frederick, Deputy Assistant Secretary of Labor for Occupational Safety and Health, directed the preparation of this notice under the authority granted by section 19 of the Occupational Safety and Health Act of 1970 (29 U.S.C. 668), 5 U.S.C. 7902, the Federal Advisory Committee Act (5 U.S.C. 10), Executive Order 12196 and 14109 Secretary of Labor's Order 8-2020 (85 FR 58393, 9/18/2020), 29 CFR part 1960 (Basic Program Elements of for Federal Employee Occupational Safety and Health Programs), and 41 CFR part 102-3.

Signed at Washington, DC.
James S. Frederick,
Deputy Assistant Secretary of Labor for Occupational Safety and Health.

[FR Doc. 2024-01118 Filed 1-19-24; 8:45 am]

BILLING CODE 4510-26-P